FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on June 24, 2008 (73 FR 35687) of the regular meeting of the Farm Credit Administration Board (Board) scheduled for July 10, 2008. This notice is to amend the agenda by adding an item to the open session of that meeting.

FOR FURTHER INFORMATION CONTACT: Roland E. Smith, Secretary to the Farm Credit Administration Board, (703) 883-4009, TTY (703) 883-4056.

ADDRESSES: Farm Credit Administration, 1501 Farm Credit Drive, McLean, Virginia 22102-5090.

SUPPLEMENTARY INFORMATION: This meeting of the Board was open to the public (limited space available). In order to increase the accessibility to Board meetings, persons requiring assistance should make arrangements in advance. The agenda for July 10, 2008, is amended by adding the following item to the open session as follows:

Open Session

A. Reports

• Effects of the Midwest Flooding

Dated: June 20, 2008.
Roland E. Smith,
Secretary, Farm Credit Administration Board.

[FR Doc. 08-1396 Filed 6-25-08; 12:47pm]

BILLING CODE 6705-01-P